DEPARTMENT OF COMMERCE

Submission for OMB Review; Comment Request

DOC has submitted to the Office of Management and Budget (OMB) for clearance the following proposal for collection of information under the provisions of the Paperwork Reduction Act (44 U.S.C. chapter 35).

AGENCY: U.S. Census Bureau.

Title: 2004 Panel of the Survey of Income and Program Participation (SIPP), Core Instrument and Wave I Topical Modules.

Form Number(s): SIPP 24105(L) Director's Letter; SIPP/CAPI Automated Instrument; SIPP 21003 Reminder Card.

Agency Approval Number: None.

Type of Request: New collection.

Burden: 98,685 hours.

Number of Respondents: 97,650.

Avg Hours Per Response: 30 minutes.

Needs and Uses: The U.S. Census Bureau plans to conduct the 2004 Panel of the Survey of Income and Program Participation (SIPP). This clearance request is to accommodate the core instrument for the life of the 2004 Panel, the topical modules for the Wave 1 interviews, and the reinterview instrument, which will be used during the life of the 2004 Panel. The reinterview instrument will be used for quality control analysis of data collected by the SIPP field representatives.

The SIPP is designed as a continuing series of national panels of interviewed households that are introduced every few years, with each panel having durations of 3 to 4 years. The 2004 Panel is scheduled for four years and will include twelve waves which will begin February 1, 2004. All household members 15 years old or over are interviewed a total of twelve times (twelve waves), at 4-month intervals, making the SIPP a longitudinal survey.

The survey is molded around a central “core” of labor force and income questions that remain fixed throughout the life of a panel. The core is supplemented with questions designed to answer specific needs. These supplemental questions are included with the core and are referred to as “topical modules.” The topical modules for the 2004 Panel Wave 1 are Recipiency History and Employment History. These topical modules were previously conducted in the SIPP 2001 Panel Wave 1 instrument. The 2004 Panel Wave 1 interviews will be conducted beginning February 1, 2004 and concluding on May 31, 2004.

Data provided by the SIPP are being used by economic policymakers, the Congress, state and local governments, and Federal agencies that administer social welfare or transfer payment programs, such as the Department of Health and Human Services and the Department of Agriculture. The SIPP represents a source of information for a wide variety of topics and allows information for separate topics to be integrated to form a single and unified database so that the interaction between tax, transfer, and other government and private policies can be examined. Government domestic policy formulators depend heavily upon the SIPP information concerning the distribution of income received directly as money or indirectly as in-kind benefits and the effect of tax and transfer programs on this distribution. They also need improved and expanded data on the income and general economic and financial situation of the U.S. population. The SIPP has provided these kinds of data on a continuing basis since 1983, permitting levels of economic well-being and changes in these levels to be measured over time. Monetary incentives to encourage non-respondents to participate is planned for all waves of the 2004 SIPP Panel.

Affected Public: Individuals or households.

Frequency: Every 4 months.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer, either by fax (202-395-7245) or e-mail (susan_schechter@omb.eop.gov).

Dated: October 8, 2003.
Madeleine Clayton,
Management Analyst, Office of the Chief Information Officer.

[FR Doc. 03-26018 Filed 10-14-03; 8:45 am]

BILLING CODE 3510-07-P